DEPARTMENT OF ENERGY

Federal Energy Regulatory Commission

Combined Notice of Filings #1

Take notice that the Commission received the following electric corporate filings:

Docket Numbers: EC12-126-000.

Applicants: Escanaba Green Energy, LLC.

Description: Application of Escanaba Green Energy, LLC for Order Authorizing Transaction Under Section 203 of the Federal Power Act, and Request for Waivers.

Filed Date: 7/26/12.

Accession Number: 20120726-5094.

Comments Due: 5 p.m. ET 8/16/12.

Take notice that the Commission received the following exempt wholesale generator filings:

Docket Numbers: EG12-91-000.

Applicants: Zephyr Wind, LLC.

Description: Self-Certification of EWG Status of Zephyr Wind, LLC.

Filed Date: 7/26/12.

Accession Number: 20120726-5071.

Comments Due: 5 p.m. ET 8/16/12.

Docket Numbers: EG12-92-000.

Applicants: Beebe Renewable Energy, LLC.

Description: Notice of Self-Certification of Exempt Wholesale Generator Status of Beebe Renewable Energy, LLC.

Filed Date: 7/26/12.

Accession Number: 20120726-5084.

Comments Due: 5 p.m. ET 8/16/12.

Take notice that the Commission received the following electric rate filings:

Docket Numbers: ER12-979-001.

Applicants: Rocky Ridge Wind Project, LLC.

Description: Notice of Change in Status of Rocky Ridge Wind Project, LLC.

Filed Date: 7/26/12.

Accession Number: 20120726-5097.

Comments Due: 5 p.m. ET 8/16/12.

Docket Numbers: ER12-1932-001.

Applicants: Franklin County Wind, LLC.

Description: FCW Market-Based Rate Tariff—Revised to be effective 8/1/2012.

Filed Date: 7/26/12.

Accession Number: 20120726-5045.

Comments Due: 5 p.m. ET 8/16/12.

Docket Numbers: ER12-1934-001.

Applicants: Wisconsin Power and Light Company.

Description: WPL Market-Based Rate Tariff—Revised to be effective 8/1/2012.

Filed Date: 7/26/12.

Accession Number: 20120726-5046.

Comments Due: 5 p.m. ET 8/16/12.

Docket Numbers: ER12-1995-001.

Applicants: K Road Modesto Solar LLC.

Description: Amendment to Initial Market-Based Rate Application to be effective 6/13/2012.

Filed Date: 7/26/12.

Accession Number: 20120726-5085.

Comments Due: 5 p.m. ET 8/16/12.

Docket Numbers: ER12-2205-001.

Applicants: Meadow Creek Project Company LLC.

Description: Supplemental MBR Filing to be effective 9/5/2012.

Filed Date: 7/26/12.

Accession Number: 20120726-5061.

Comments Due: 5 p.m. ET 8/16/12.

Docket Numbers: ER12-2205-002.

Applicants: Meadow Creek Project Company LLC.

Description: Rev Supplemental Filing to be effective 9/5/2012.

Filed Date: 7/26/12.

Accession Number: 20120726-5076.

Comments Due: 5 p.m. ET 8/16/12.

Docket Numbers: ER12-2306-000.

Applicants: Puget Sound Energy, Inc.

Description: Engineering & Procurement Agreement No 638 to be effective 7/3/2012.

Filed Date: 7/26/12.

Accession Number: 20120726-5047.

Comments Due: 5 p.m. ET 8/16/12.

Docket Numbers: ER12-2307-000.

Applicants: Escanaba Green Energy, LLC.

Description: Escanaba Green Energy, LLC submits tariff filing per 35.12: Escanaba Green Energy LLC FERC Electric Tariff No. 1 to be effective 7/27/2012.

Filed Date: 7/26/12.

Accession Number: 20120726-5055.

Comments Due: 5 p.m. ET 8/16/12.

Docket Numbers: ER12-2308-000.

Applicants: GSG 6, LLC.

Description: Notice of Non-Material Change to be effective 7/27/2012.

Filed Date: 7/26/12.

Accession Number: 20120726-5060.

Comments Due: 5 p.m. ET 8/16/12.

Docket Numbers: ER12-2309-000.

Applicants: Bartram Lane LLC.

Description: Bartram Lane LLC, FERC Electric Tariff to be effective 9/1/2012.

Filed Date: 7/26/12.

Accession Number: 20120726-5072.

Comments Due: 5 p.m. ET 8/16/12.

Docket Numbers: ER12-2310-000.

Applicants: Zephyr Wind, LLC.

Description: Baseline New to be effective 9/25/2012.

Filed Date: 7/26/12

Accession Number: 20120726-5074.

Comments Due: 5 p.m. ET 8/16/12.

Docket Numbers: ER12-2311-000.

Applicants: Beebe Renewable Energy, LLC.

Description: Application for Market-Based Rate Authorization to be effective 9/24/2012.

Filed Date: 7/26/12.

Accession Number: 20120726-5075.

Comments Due: 5 p.m. ET 8/16/12.

Docket Numbers: ER12-2312-000.

Applicants: Perigee Energy, LLC.

Description: Perigee Energy, LLC submits tariff filing per 35.12: Perigee Energy, LLC Rate Schedule FERC No. 1 to be effective 7/27/2012.

Filed Date: 7/27/12.

Accession Number: 20120727-5002.

Comments Due: 5 p.m. ET 8/17/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 27, 2012.
Nathaniel J. Davis, Sr.,
Deputy Secretary.

[FR Doc. 2012-18983 Filed 8-2-12; 8:45 am]

BILLING CODE 6717-01-P